INTERNATIONAL TRADE COMMISSION

[Investigation No. 731-TA-1576 (Final)]

Emulsion Styrene-Butadiene Rubber (ESBR) From Italy; Termination of Investigation

AGENCY: United States International Trade Commission.

ACTION: Notice.

SUMMARY: On May 2, 2022, counsel for petitioner, Lion Elastomers LLC, filed with the Department of Commerce and the Commission a withdrawal of their petition regarding imports of emulsion styrene-butadiene rubber (“ESBR”) from Italy. Accordingly, the antidumping duty investigation concerning ESBR from Italy (Investigation No. 731-TA-1576 (Final)) is terminated.

DATES: May 11, 2022.

FOR FURTHER INFORMATION CONTACT: Charles Cummings (202-708-1666), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to 19 U.S.C. 1673c(a)(1)(A) and section 207.40(a) of the Commission's rules (19 CFR 207.40(a)). This notice is published pursuant to section 201.10 of the Commission's rules (19 CFR 201.10).

By order of the Commission.
Issued: May 12, 2022.
Lisa Barton,
Secretary to the Commission.

[FR Doc. 2022-10546 Filed 5-16-22; 8:45 am]

BILLING CODE 7020-02-P